DEPARTMENT OF ENERGY

National Nuclear Security Administration

Amended Record of Decision: Surplus Plutonium Disposition; Waste Solidification Building

AGENCY: National Nuclear Security Administration, U.S. Department of Energy.

ACTION: Amended Record of Decision.

SUMMARY: The National Nuclear Security Administration (NNSA), a separately organized agency within the U.S. Department of Energy (DOE), is amending the Record of Decision (ROD) for the Surplus Plutonium Disposition Environmental Impact Statement (SPD EIS) (DOE/EIS-0283, November 1999). In the SPD EIS ROD (65 FR 1608; January 11, 2000), DOE announced decisions for implementing the U.S. Surplus Plutonium Disposition Program, including affirming its January 1997 decision (62 FR 3014) to pursue a hybrid approach for the safe and secure disposition of up to 50 metric tons of surplus weapons-usable plutonium using both immobilization and mixed oxide (MOX) fuel technologies as evaluated in the Storage and Disposition of Weapons-Usable Fissile Materials Programmatic Environmental Impact Statement (Storage and Disposition PEIS) (DOE/EIS-0229, November 1996). Decisions announced in the SPD EIS ROD included construction and operation of three new facilities at the Savannah River Site (SRS) near Aiken, South Carolina, to disposition approximately 17 tons of surplus plutonium using the immobilization approach and the use of up to 33 metric tons as MOX fuel that would be irradiated in commercial reactors. The three new facilities were identified as a pit disassembly and conversion facility (PDCF), an immobilization facility,¹ and a MOX fuel fabrication facility (MFFF). These facilities as analyzed in the SPD EIS were to be constructed in F-Area at SRS and included capabilities for management of wastes generated as part of the processing activities in each of the facilities. DOE/NNSA is today announcing its decision to construct and operate a standalone building, the waste solidification building (WSB), for treating and solidifying liquid transuranic waste and certain liquid low-level radioactive wastes from MFFF and PDCF, specifically a high-activity (high-alpha) waste stream from MFFF, a low-activity stripped-uranium waste stream from MFFF, and a low-activity laboratory waste stream from PDCF.² This decision is based on the Supplement Analysis for Construction and Operation of a Waste Solidification Building at the Savannah River Site (WSB SA) (DOE/EIS-0283-SA-2) prepared pursuant to DOE procedures implementing the National Environmental Policy Act (NEPA) (10 CFR 1021.314). The WSB SA demonstrates that construction and operation of a standalone WSB represent neither substantial changes relevant to environmental concerns nor significant new circumstances or information relevant to environmental concerns from those evaluated in previous NEPA documents.

¹ In an April 19, 2002, amended ROD (67 FR 19432), DOE announced cancellation of the immobilization component of the U.S. Surplus Plutonium Disposition Program.

² The decision announced in this amended ROD is consistent with the approach discussed in the Construction Authorization Request and the License Application submitted to the Nuclear Regulatory Commission (NRC) by DOE/NNSA's contractor for the Mixed Oxide (MOX) Fuel Fabrication Facility. The decision also is consistent with the approach discussed in the NRC's Environmental Impact Statement on the Construction and Operation of a Proposed Mixed Oxide Fuel Fabrication Facility at the Savannah River Site, South Carolina (NUREG-1767).

FOR FURTHER INFORMATION CONTACT: For further information concerning construction and operation of the waste solidification building, or to obtain copies of this amended ROD, contact: Ms. Sachiko W. McAlhany, Office of Site Engineering and Construction Management, U.S. Department of Energy/National Nuclear Security Administration, Savannah River Site, Aiken, South Carolina 29802, Telephone: (803) 952-6110, E-mail: sachiko-w.mcalhany@nnsa.srs.gov.

For information on the DOE's NEPA process, contact: Ms. Carol M. Borgstrom, Director, Office of NEPA Policy and Compliance, GC-20, U.S. Department of Energy, 1000 Independence Avenue, SW., Washington, DC 20585-0103, (202) 586-4600, or leave a message at (800) 472-2756.

This Amended ROD, the WSB SA, and other DOE NEPA documents are available on the DOE NEPA Web site at http://www.gc.energy.gov/NEPA.

SUPPLEMENTARY INFORMATION:

Background

The U.S. Surplus Plutonium Disposition Program was first evaluated under NEPA in the Storage and Disposition PEIS. Among the alternatives evaluated, the Reactor Category and Common Activities Alternative included a MOX fuel fabrication facility conceptual design with a standalone building to manage wastes. The ROD for the Storage and Disposition PEIS (62 FR 3014) outlined DOE's decision to pursue a hybrid disposition strategy that allowed for both immobilization of surplus weapons-usable plutonium for disposal in a geologic repository and fabrication of MOX fuel for use in existing domestic, commercial nuclear power reactors followed by disposal of the spent MOX fuel in a geologic repository.

Subsequent to the Storage and Disposition PEIS, DOE prepared the SPD EIS, which supported selection of specific technologies and sites for surplus plutonium disposition. In the ROD for the SPD EIS (65 FR 1608; January 11, 2000), DOE announced its decision to fabricate approximately 33 metric tons (36 tons) of surplus weapons-usable plutonium in pits and clean metal into MOX fuel for use in existing domestic, commercial nuclear power reactors and to immobilize approximately 17 metric tons (19 tons) of surplus weapons-usable non-pit plutonium in a ceramic matrix surrounded by Defense Waste Processing Facility ³ high-level radioactive waste glass. In the 2000 ROD, DOE also announced that the three facilities required to effect this disposition (MFFF, PDCF, and an Immobilization Facility) would be constructed and operated at SRS.

³ Nuclear materials production operations at SRS resulted in generation of large quantities of high-level radioactive waste. The Defense Waste Processing Facility was constructed at SRS to convert this high-level radioactive waste to a stable glass form suitable for disposal in a geologic repository.

On April 19, 2002, DOE/NNSA announced in an Amended ROD for the Storage and Disposition PEIS and the SPD EIS (67 FR 19432) that it was cancelling the immobilization component of the U.S. Surplus Plutonium Disposition Program, thereby reducing the number of facilities to be constructed at SRS from three to two. In the amended ROD, DOE/NNSA explained that the revised disposition strategy involved a MOX-only approach, under which up to 34 metric tons (37 tons) of surplus plutonium would be dispositioned by converting it to MOX fuel and irradiating the fuel in existing domestic, commercial nuclear power reactors. The DOE/NNSA also indicated that no final decisions would be made with respect to the MOX portion of the revised disposition program until DOE/NNSA had completed additional analysis pursuant to NEPA. That additional NEPA analysis was completed upon issuance of the Supplement Analysis for Changes Needed to the Surplus Plutonium Disposition Program (MOX SA) (DOE/EIS-0283-SA1) in April 2003, and an Amended ROD was issued (68 FR 20134; April 24, 2003) announcing DOE/NNSA's decision to fabricate 34 metric tons (37 tons) of surplus plutonium into MOX fuel, including up to 6.5 metric tons (7.2 tons) originally intended for immobilization.

In the MOX SA, DOE/NNSA evaluated proposed changes to the Surplus Plutonium Disposition Program to accommodate fabrication of this additional plutonium into MOX fuel at MFFF and also those refinements identified through the design process for MFFF. Consistent with the design at the time, a stand-alone WSB in which both liquid low-level radioactive waste and transuranic waste would be treated and solidified was evaluated in the MOX SA. This was a refinement from the facility designs assumed in the SPD EIS, in which MFFF and PDCF each included waste processing equipment to treat and solidify low-level radioactive waste and transuranic waste. A stand-alone WSB takes advantage of an economy of scale in that similar waste streams from both MFFF and PDCF can be treated together in the same location, rather than having duplicate equipment installed in both facilities. A stand-alone WSB was also evaluated by the U.S. Nuclear Regulatory Commission (NRC) in the 2005 Environmental Impact Statement on the Construction and Operation of a Proposed Mixed Oxide Fuel Fabrication Facility at the Savannah River Site, South Carolina (MFFF EIS).⁴ A standalone WSB is also discussed in the Construction Authorization Request and the License Application submitted to the Nuclear Regulatory Commission by DOE/NNSA's contractor to design, construct and operate MFFF.

⁴ Pursuant to Section 202(5) of the Energy Reorganization Act as added by Section 3134 of the Strom Thurmond National Defense Authorization Act for Fiscal Year 1999, MFFF must be licensed by the NRC. NRC prepared the MFFF EIS in accordance with NEPA to support NRC licensing decisions concerning MFFF. Neither WSB nor PDCF will be licensed by NRC, but both were evaluated in the MFFF EIS as connected actions.

Waste Solidification Building

During the detailed design process for the MFFF, and after DOE/NNSA considered using existing SRS facilities for processing all or some of the MFFF and PDCF waste streams, the MFFF design was changed from the conceptual design evaluated in the SPD EIS to include the standalone WSB, because, among other reasons, closure schedules for these SRS facilities were not at that time compatible with the Surplus Plutonium Disposition schedule.

In 2004, planning for WSB was suspended because of uncertainties with the Surplus Plutonium Disposition Program. Specifically, delays in negotiations with the Russian Federation (for Russian disposition of excess Russian weapons-grade plutonium) coupled with significant funding constraints for the domestic program had caused the project schedules for MFFF and PDCF to be extended. At that time, detailed design for WSB was about to begin, with the assumption that treatment for five liquid waste streams from MFFF and PDCF would occur in WSB. Because of the programmatic uncertainties, DOE/NNSA determined instead to suspend WSB Project activities.

Design activities for WSB resumed in 2006. During the project suspension, changes in closure schedules for certain SRS waste management facilities allowed DOE/NNSA to reconsider the use of existing SRS site treatment capabilities that were originally scheduled to be shut down before completion of the plutonium disposition mission. As a result, DOE/NNSA requested the SRS management and operating contractor to undertake an analysis to identify potential reasonable alternatives that would lead to the optimum WSB configuration. The goal of this study was to identify which waste processing and management operations could be conducted in existing SRS facilities and which, if any, would need to be provided independently.

The study comparing a range of potential alternatives comprising combinations of new and existing facilities was submitted in June 2005. The DOE/NNSA evaluation of these alternatives showed that the most reasonable alternative with the least project risk would be to (1) use existing SRS facilities (the Effluent Treatment Project) for waste treatment for two waste streams projected to have minimal (or no) radioactive contamination; (2) use existing SRS facilities for certification, packaging and shipping wastes solidified in WSB or generated during WSB operations; and (3) provide independent treatment and management capabilities (i.e., construct and operate a WSB) for three waste streams that are not compatible with existing SRS operations without major, costly modifications to SRS facilities and planned closure schedules.

The WSB will be constructed near MFFF and PDCF in F-Area and will process liquid waste streams from both MFFF and PDCF. The WSB will receive three waste streams transferred from MFFF and PDCF through underground, double-walled stainless steel lines: A high-activity (high-alpha) waste stream from MFFF, a low-activity stripped-uranium waste stream from MFFF, and a low-activity waste stream from the PDCF laboratory. Waste streams will be stored at WSB in tanks pending subsequent treatment by neutralization, volume reduction by evaporation, and cementation. Condensed overheads from the evaporators will be either transferred through a lift station and piping to the existing SRS Effluent Treatment Project if the overheads meet the acceptance criteria for that facility or routed back through WSB processes for further treatment.

The WSB SA discusses existing NEPA evaluations for surplus plutonium disposition activities relative to WSB, and provides a comparison of the potential environmental impacts of constructing and operating the WSB in F-Area at SRS to impacts identified in the SPD EIS for constructing and operating MFFF and PDCF. The WSB SA also qualitatively compares the impacts of a stand-alone WSB to the impacts of the relevant waste processing, treatment and solidification operations discussed as part of both the MFFF and the PDCF in the SPD EIS. Construction and operation of the stand-alone WSB to treat and solidify transuranic and low-level radioactive wastes from MFFF and PDCF does not involve environmental impacts that are significantly different from those identified in previous NEPA analyses, in particular, the SPD EIS. Activities proposed for this stand-alone building, the WSB, would be similar to those identified in the SPD EIS to occur separately in both MFFF and PDCF.

The WSB SA demonstrates that construction and operation of a stand-alone WSB represent neither substantial changes relevant to environmental concerns nor significant new circumstances or information relevant to environmental concerns. Therefore, pursuant to 10 CFR 1021.314(c), no additional NEPA analyses are required to construct and operate a stand-alone WSB.

Decision

DOE/NNSA has decided to construct and operate a stand-alone waste solidification building for treating and solidifying liquid transuranic waste and certain liquid low-level radioactive wastes generated by MFFF and PDCF, specifically a high-activity (high-alpha) waste stream from MFFF, a low-activity stripped-uranium waste stream from MFFF, and a low-activity laboratory waste stream from PDCF. As described in the WSB SA (DOE/EIS-0283-SA-2), the potential environmental impacts of constructing and operating a stand-alone WSB are not significantly different from the impacts of treating and solidifying these wastes in MFFF and PDCF as analyzed in the SPD EIS.

Issued in Washington, DC this 26th day of November, 2008.
Thomas P. D'Agostino,
Administrator, National Nuclear Security Administration.

[FR Doc. E8-29240 Filed 12-9-08; 8:45 am]

BILLING CODE 6450-01-P